DEPARTMENT OF THE INTERIOR

Bureau of Ocean Energy Management

[Docket No. BOEM-2015-0125]

Environmental Assessment for Commercial Wind Leasing and Site Assessment Activities on the Atlantic Outer Continental Shelf (OCS) Offshore South Carolina; MMAA104000

AGENCY: Bureau of Ocean Energy Management (BOEM), Interior.

ACTION: Notice of Intent to prepare an Environmental Assessment.

SUMMARY: BOEM is announcing its intent to prepare an Environmental Assessment (EA) for potential commercial wind leasing and site assessment activities on the Atlantic OCS offshore South Carolina. The EA will address environmental and socioeconomic effects related to the proposed action, issuance of commercial wind energy leases, and approval of site assessment activities on those leases. This notice serves to announce the beginning of the formal scoping process. The scope of the EA is the range of issues, alternatives, impacts, and mitigation measures to be considered. Scoping will help identify reasonable alternatives and focus the analysis in the EA on potentially significant issues and eliminate from detailed consideration those issues that are insignificant, irrelevant, or that have not changed from previous analyses. BOEM will also use the scoping process to seek public comment and input under the National Historic Preservation Act (NHPA). Additional information on the proposed action may be found at http://www.boem.gov/South-Carolina/.

DATES: Comments should be submitted no later than January 25, 2016.

FOR FURTHER INFORMATION CONTACT: Michelle Morin, BOEM Office of Renewable Energy Programs, 45600 Woodland Road, VAM-OREP, Sterling, Virginia 20166, (703) 787-1722, or michelle.morin@boem.gov.

SUPPLEMENTARY INFORMATION:

1. Proposed Action

The proposed action that will be the subject of the EA is the issuance of wind energy leases within all or some of the Call Areas offshore South Carolina and the approval of site assessment activities (including the installation and operation of a meteorological tower and/or buoys) on those leases. BOEM will also consider the environmental impacts associated with the site characterization activities (including geophysical, geotechnical, archaeological, and biological surveys) that it anticipates lessees might eventually undertake to fulfill the information requirements for Site Assessment Plans and Construction and Operations Plans found at 30 CFR 585.610 and 585.626 respectively.

2. Description of the Call Areas

A detailed description of the Call Areas can be found in the Commercial Leasing for Wind Power on the Outer Continental Shelf Offshore South Carolina—Call for Information and Nominations that is being published concurrently with this notice. A map of the Call Areas can be found at: http://www.boem.gov/South-Carolina/. BOEM identified the four Call Areas in consultation with other Federal agencies and the BOEM South Carolina Intergovernmental Renewable Energy Task Force.

3. National Historic Preservation Act

BOEM will use the NEPA process to inform the Section 106 consultation process of the NHPA (54 U.S.C. 300101 et seq.), as provided for in 36 CFR 800.2(d)(3). BOEM is seeking public comment and input regarding the identification of historic properties or potential impacts to historic properties from the proposed action, as defined by the NHPA.

4. Cooperating Agencies

BOEM invites other Federal, State, Tribal, and local governments to consider becoming cooperating agencies in the preparation of this EA. We invite qualified government entities to inquire about cooperating agency status. You may contact OREP (listed above).

5. Public Scoping Meetings

BOEM will hold public scoping meetings in South Carolina on the following dates:

• Tuesday, January 5, 2016; Mason Preparatory School; 56 Halsey Boulevard, Charleston, South Carolina 29401; 6:00-8:00 p.m.;

• Wednesday, January 6, 2016; St. James High School; 10800 SC-707, Murrells Inlet, South Carolina 29576; 6:00-8:00 p.m.; and

• Thursday, January 7, 2016; Boulineau's (Second Floor Meeting Room); 212 Sea Mountain Highway, North Myrtle Beach, South Carolina 29582; 6:00-8:00 p.m.

6. Comments

Federal, State, Tribal, and local governments and/or agencies and the public are requested to send their written comments regarding environmental issues and the identification of reasonable alternatives related to the proposed action described in this notice through one of the following methods:

1. Federal eRulemaking Portal: http://www.regulations.gov. In the field entitled “Enter Keyword or ID,” enter BOEM-2015-0125, and then click “search.” Follow the instructions to submit public comments and view supporting and related materials available for this notice;

2. U.S. mail in an envelope labeled “Comments on South Carolina EA” and addressed to Program Manager, Office of Renewable Energy Programs, Bureau of Ocean Energy Management, 45600 Woodland Road, VAM-OREP, Sterling, Virginia 20166. Comments must be postmarked by the last day of the comment period to be considered. This date is January 25, 2016.

Before including your address, phone number, email address or other personal identifying information in your comment, you should be aware that your entire comment, including your personal identifying information, may be made publicly available at any time. While you can ask us in your comments to withhold your personal identifying information from public review, we cannot guarantee that we will be able to do so.

Authority: This Notice of Intent to prepare an EA is in compliance with NEPA, as amended (42 U.S.C. 4231 et seq.), and is published pursuant to 43 CFR 46.305.

Dated: November 18, 2015.
Abigail Ross Hopper,
Director, Bureau of Ocean Energy Management.

[FR Doc. 2015-29907 Filed 11-24-15; 8:45 am]

BILLING CODE 4310-MR-P